INTERNATIONAL TRADE COMMISSION

[Investigation No. 731-TA-1059 (Review)]

Hand Trucks and Certain Parts Thereof From China

Determination

On the basis of the record ¹ developed in the subject five-year reviews, the United States International Trade Commission (Commission) determines, pursuant to section 751(c) of the Tariff Act of 1930 (19 U.S.C. 1675(c)), that revocation of the antidumping duty orders on hand trucks and certain parts thereof from China would be likely to lead to continuation or recurrence of material injury to an industry in the United States within a reasonably foreseeable time.

¹ The record is defined in sec. 207.2(f) of the Commission's Rules of Practice and Procedure (19 CFR 207.2(f)).

Background

The Commission instituted this review on November 2, 2009 (74 FR 56661) and determined on February 5, 2010 that it would conduct an expedited review (75 FR 8745, February 25, 2010).

The Commission transmitted its determination in this review to the Secretary of Commerce on April 15, 2010. The views of the Commission are contained in USITC Publication 4138 (April 2010), entitled Hand Trucks and Certain Parts Thereof: Investigation No. 731-TA-1059 (Review).

By order of the Commission.
Issued: April 15, 2010.
Marilyn R. Abbott,
Secretary to the Commission.

[FR Doc. 2010-9207 Filed 4-20-10; 8:45 am]

BILLING CODE 7020-02-P